DEPARTMENT OF HEALTH AND HUMAN SERVICES

National Institutes of Health

National Institute of Neurological Disorders and Stroke; Amended Notice of Meeting

Notice is hereby given of a change in the meeting of the National Institute of Neurological Disorders and Stroke Special Emphasis Panel, April 19, 2011, 3:15 p.m. to April 19, 2011, 7:15 p.m., National Institutes of Health, Neuroscience Center, 6001 Executive Boulevard, Rockville, MD 20852 which was published in the Federal Register on April 1, 2011, 76 FR 18230.

The date and time of the meeting was changed to May 19, 2011, from 2 p.m.-6 p.m. The meeting location remains the same. The meeting is closed to the public.

Dated: April 21, 2011.
Anna P. Snouffer,
Deputy Director, Office of Federal Advisory Committee Policy.

[FR Doc. 2011-10212 Filed 4-26-11; 8:45 am]

BILLING CODE 4140-01-P